DEPARTMENT OF COMMERCE

National Oceanic and Atmospheric Administration

RIN 0648-XA915

Marine Mammals; File No. 16621

AGENCY: National Marine Fisheries Service (NMFS), National Oceanic and Atmospheric Administration (NOAA), Commerce.

ACTION: Notice; issuance of permit.

SUMMARY: Notice is hereby given that a permit has been issued to Alejandro Acevedo-Gutiérrez, Ph.D., Biology Department, Western Washington University, Bellingham, WA to conduct research on harbor seals (Phoca vitulina).

ADDRESSES: The permit and related documents are available for review upon written request or by appointment in the following offices:

Permits and Conservation Division, Office of Protected Resources, NMFS, 1315 East-West Highway, Room 13705, Silver Spring, MD 20910; phone (301) 427-8401; fax (301) 713-0376; and Northwest Region, NMFS, 7600 Sand Point Way NE., BIN C15700, Bldg. 1, Seattle, WA 98115-0700; phone (206) 526-6150; fax (206) 526-6426.

FOR FURTHER INFORMATION CONTACT: Tammy Adams or Joselyd Garcia-Reyes, (301) 427-8401.

SUPPLEMENTARY INFORMATION: On January 4, 2012, notice was published in the Federal Register (76 FR 45514) that a request for a permit to conduct research on harbor seals in Washington State, had been submitted by the above-named applicant. The requested permit has been issued under the authority of the Marine Mammal Protection Act of 1972, as amended (16 U.S.C. 1361 et seq.), and the regulations governing the taking and importing of marine mammals (50 CFR part 216).

The permit authorizes harassment of harbor seals in Washington State inland waters of the Salish Sea. The research involves ground surveys, vessel surveys, and playback experiments. The permit expires on March 15, 2017.

In compliance with the National Environmental Policy Act of 1969 (42 U.S.C. 4321 et seq.), a final determination has been made that the activity proposed is categorically excluded from the requirement to prepare an environmental assessment or environmental impact statement.

Dated: March 21, 2012.
Tammy C. Adams,
Acting Chief, Permits and Conservation Division, Office of Protected Resources, National Marine Fisheries Service.

[FR Doc. 2012-7600 Filed 3-28-12; 8:45 am]

BILLING CODE 3510-22-P